DEPARTMENT OF EDUCATION

[ED-2023-FSA-0012]

Privacy Act of 1974; Matching Program

AGENCY: Federal Student Aid, Department of Education.

ACTION: Notice of a new computer matching agreement (CMA).

SUMMARY: This document provides notice of a new matching program between the Department of Education (ED) and the Department of Justice (DOJ). The current 18-month CMA was recertified for an additional 12 months on July 2, 2022 and will automatically expire on July 1, 2023.

DATES: Submit your comments on the proposed CMA on or before July 5, 2023. The CMA will be effective the later of: (1) July 2, 2023, or (2) July 3, 2023, unless comments have been received from interested members of the public requiring modification and republication of the notice. The CMA will continue for 18 months after the effective date of the CMA and may be extended for an additional 12 months thereafter if the conditions specified in 5 U.S.C. 552a(o)(2)(D) have been met.

ADDRESSES: Comments must be submitted via the Federal eRulemaking Portal at regulations.gov. However, if you require an accommodation or cannot otherwise submit your comments via regulations.gov, please contact the program contact person listed under FOR FURTHER INFORMATION CONTACT. The Department will not accept comments by email or by fax. To ensure that we do not receive duplicate copies, please submit your comments only once. In addition, please include the Docket ID at the top of your comments.

Federal eRulemaking Portal: Go to www.regulations.gov to submit your comments electronically. Information on using Regulations.gov, including instructions for accessing agency documents, submitting comments, and viewing the docket, is available on the site under the “FAQ” tab.

Privacy Note: ED's policy is to make all comments received from members of the public available for public viewing in their entirety on the Federal eRulemaking Portal at www.regulations.gov. Therefore, commenters should be careful to include in their comments only information that they wish to make publicly available.

FOR FURTHER INFORMATION CONTACT: Gerard Duffey, Management and Program Analyst, U.S. Department of Education, Federal Student Aid, Philadelphia, PA 19107. Telephone: (215) 656-3249.

SUPPLEMENTARY INFORMATION: We provide this notice in accordance with the Privacy Act of 1974 (5 U.S.C. 552a), as amended by the Computer Matching and Privacy Protection Act of 1988 (Pub. L. 100-503) and the Computer Matching and Privacy Protection Amendments of 1990 (Pub. L. 101-508) (CMPPA); the Office of Management and Budget (OMB) Final Guidance Interpreting the Provisions of Public Law 100-503, the Computer Matching and Privacy Protection Act of 1988 (54 FR 25818, June 19, 1989); and OMB Circular A-108, Federal Agency Responsibilities for Review, Reporting, and Publication under the Privacy Act (81 FR 94424, December 23, 2016).

Participating Agencies: The Department of Education (ED) and the Department of Justice (DOJ).

Authority for Conducting the Matching Program: Under section 421 of the Controlled Substances Act (21 U.S.C. 862) (originally enacted as section 5301 of the Anti-Drug Abuse Act of 1988, Pub. L. 100-690, 21 U.S.C. 853a, which was amended and re-designated as section 421 of the Controlled Substances Act by section 1002(d) of the Crime Control Act of 1990, Pub. L. 101-647) (hereinafter referred to as “section 5301”)), an individual convicted of a Federal or State drug trafficking or possession offense may be denied, at the discretion of the court, certain Federal benefits, including those under the Federal Student Financial Assistance Programs authorized by title IV of the Higher Education Act (HEA) of 1965, as amended (title IV, HEA student financial assistance). The Denial of Federal Benefits and Defense Procurement Fraud Debarment Clearinghouse Programs (DFB/DPFD) database (formerly known as DEBARS) collects information regarding those individuals for whom benefits are denied and forwards this information to the General Services Administration (GSA) for inclusion in the publication “Lists of Parties Excluded from Federal Procurement or Non-procurement Programs,” more commonly known as the “Debarment List.” Federal agencies are required by law to consult the Debarment List, prior to the provision of certain benefits. However, ED and DOJ have determined that, for purposes of verifying title IV, HEA student financial assistance eligibility, direct access to the DFB/DPFD database would be more useful than access to the GSA's Debarment List because the DFB/DPFD database contains information essential to the effective operation of the match that is not available in the GSA List.

By matching the names, dates of birth, and Social Security Number (SSNs) in the DFB/DPFD database with ED's student financial aid records, ED is able to identify students who do not qualify for Federal student financial assistance pursuant to section 5301. DOJ's system of records also contains information concerning the specific program or programs for which benefits have been denied, as well as the period of ineligibility. DOJ will make available for the CMA the records of only those individuals who have been denied Federal benefits under one or more of the title IV, HEA programs. Thus, ED avoids the cost of disbursing student financial assistance funds to individuals who do not qualify for Federal student financial assistance, but who would otherwise receive aid had the CMA not existed.

DOJ is the lead contact agency for information related to violations of section 5301 and, as such, provides this data to ED. The 18-month CMA was recertified for an additional 12 months on July 2, 2022 and will automatically expire on July 1, 2023.

Purpose(s): The purpose of this matching program is to ensure that the requirements of section 5301 are met.

DOJ is the lead contact agency for information related to section 5301 violations and, as such, provides this data to ED. ED seeks access to the information contained in the Denial of Federal Benefits and Defense Procurement Fraud Debarment Clearinghouse program (DFB/DPFD) database (formerly known as DEBARS) that is authorized under section 5301 for the purpose of ensuring that HEA student financial assistance is not awarded to individuals subject to denial of benefits under court orders issued pursuant to the Denial of Federal Benefits Program.

Categories of Individuals: The individuals whose records are included in this matching program are individuals who are the subject of section 5301 denial of benefits court orders, and all students who complete a Free Application for Federal Student Aid. ED receives data from the DOJ DFB/DPFD system that is used to match title IV, HEA applicant data in ED's Aid Awareness and Application Processing System of Records (AAAP) (18-11-21)—published in the Federal Register on September 13, 2022 (87 FR 56026), and available at: https://www.federalregister.gov/documents/2022/09/13/2022-19890/privacy-act-of-1974-system-of-records.

Categories of Records: ED will use the SSN, date of birth, and the first two letters of an applicant's last name for the match. These data elements are contained in ED's Central Processing System (CPS) and Free Application for Federal Student Aid Processing System (FPS). The DOJ DFB/DPFD system contains the names, SSNs, dates of birth, and other identifying information regarding individuals convicted of Federal or State offenses involving drug trafficking or possession of a controlled substance who have been denied Federal benefits by Federal or State courts. This system of records also contains information concerning the specific program or programs for which benefits have been denied, as well as the duration of the period of ineligibility. DOJ will make available for the matching program the records of only those individuals who have been denied Federal benefits under one or more of the title IV, HEA programs.

System(s) of Records: DOJ system of records: DFB/DPFD (The most recent full DFB/DPFD system of records notice was published in the Federal Register on May 10, 1999, 64 FR 25071). ED system of records: Aid Awareness and Application Processing (18-11-21)—published in the Federal Register on September 13, 2022 (87 FR 56026), and available at: https://www.federalregister.gov/documents/2022/09/13/2022-19890/privacy-act-of-1974-system-of-records. (Note: The ED Central Processing System (CPS) and Free Application for Federal Student Aid (FAFSA) Processing System (FPS) are the ED information systems that process FAFSA data from the Aid Awareness and Application Processing system of records. CPS will process this data through September 30, 2024 for Award Year (AY) 2023-24. FPS will become operational on or after December 1, 2023 and begin processing FAFSA data for AY 2024-25. After September 30, 2024, CPS will be decommissioned and be fully replaced by FPS within AAAP. FPS will process data for all AYs thereafter.

Accessible Format: By request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2023-11856 Filed 6-2-23; 8:45 am]

BILLING CODE 4000-01-P